DEPARTMENT OF THE TREASURY

Submission for OMB Review; Comment Request

August 17, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 24, 2007 to be assured of consideration.

Bureau of Public Debt (BPD)

OMB Number: 1535-0128.

Type of Review: Extension.

Title: Direct Deposit Sign-Up Form.

Forms: PD-F-5396.

Description: Used to process payment data to the financial institution.

Respondents: Individuals or Households.

Estimated Total Burden Hours: 3,060 hours.

OMB Number: 1535-xxxx.

Type of Review: New collection.

Title: Investigative Forms.

Forms: PD F 5518, PD F 5519, PD F 5520, PD F 5521.

Description: Information requested is in support of background investigations conducted by the Bureau of the Public Debt.

Respondents: Individuals or Households.

Estimated Total Burden Hours: 188 hours.

OMB Number: 1535-0082.

Type of Review: Revision.

Title: Subscription for Purchase of U.S. Treasury Securities State and Local Government Series One-Day Certificate of Indebtedness Demand Deposit.

Forms: PD-F-5237.

Description: Used to collect information from State and Local Government entities wishing to purchase Treasury securities.

Respondents: State, Local, and Tribal Governments.

Estimated Total Burden Hours: 8 hours.

OMB Number: 1535-0083.

Type of Review: Revision.

Title: Request for Redemption of U.S. Treasury Securities—State and Local Government Series One-day Certificates of Indebtedness.

Forms: PD-F-5238.

Description: Used to collect information from State and Local Government entities to process redemptions of U.S. Treasury Securities.

Respondents: State, Local, or Tribal Governments.

Estimated Total Burden Hours: 3 hours.

OMB Number: 1535-0112.

Type of Review: Extension.

Title: Sale and Issue of Marketable Book-Entry Treasury Bills, Notes and Bonds.

Forms: PD-F-5396.

Description: Information needed in order to process tender and to ensure compliance with Treasury Auction Rules.

Respondents: Individuals or Households.

Estimated Total Burden Hours: 1 hour.

Clearance Officer: Vicki S. Thorpe, (304) 480-8150, Bureau of the Public Debt, 200 Third Street, Parkersburg, West Virginia 26106.

OMB Reviewer: Alexander T. Hunt, (202) 395-7316, Office of Management and Budget, Room 10235, New Executive Office Building, Washington, DC 20503.

Robert Dahl,
Treasury PRA Clearance Officer.

[FR Doc. E7-16735 Filed 8-23-07; 8:45 am]

BILLING CODE 4810-39-P